DEPARTMENT OF HEALTH AND HUMAN SERVICES

Agency for Healthcare Research and Quality

Public comments on EPC Report “Systems to Rate the Strength of Scientific Evidence”

AGENCY: The Agency for Healthcare Research and Quality (AHRQ), HHS.

ACTION: Request for public comments.

SUMMARY: To inform its response to a legislative mandate to develop and disseminate methods or systems to rate scientific evidence found in health care research studies (see Background section, below), AHRQ commissioned the Research Triangle Institute-University of North Carolina Evidence-based Practice Center (RTI/UNC EPC) to undertake a study on systems to rate the quality of scientific evidence. The goals of the EPC study were to describe systems to rate the strength of scientific evidence, including evaluating the quality of individual articles that make up a body of evidence on a specific scientific question in health care, and to provide some guidance as to current “best practices” with respect to rating scientific evidence regrading a particular clinical treatment or technology.

The RTI/UNC EPC completed their study and submitted to AHRQ the report “Systems to Rate the Strength of Scientific Evidence”. The report includes the EPC's methodological approach (e.g., search strategy, data collection, analysis of findings) and discusses identification of systems, factors important in developing and using rating systems, and a “best practices” orientation to selecting systems for use. The report also includes recommendations for future research.

The comprehensive report “Systems to Rate the strength of Scientific Evidence, is available on AHRQ's web page at http://www.ahrq.gov/clinic/evrptfiles.htm#strength”. The report also is available, without charge, from the AHRQ Clearinghouse by calling 800-358-9295.

There are a variety of audiences for the guidance that the Agency will disseminate on this subject, who we hope will be interested in evaluating the usefulness of this EPC report for their purposes and who will also describe the type of guidance that would be most helpful to them. Obtaining comment on how the AHRQ can best fulfill its legislative mandate to identify and disseminate guidance on systems to rate the strength of scientific evidence, is essential to fulfill its commitment to inform all segments of the health care community. We are interested in receiving comments on the report's overall clarity, usefulness, and thoroughness, and we also welcome suggestions on the type of guidance that would be most helpful to researchers, policymakers, provider systems, professional societies, practitioners, patients, and others. For example, what do professional societies, practitioners, payors, policymakers need to know about grading scientific evidence? What parts of the EPC report will be used in day-to-day health care decision making? Is some part this information useful to patients? What are the most useful format(s) for the guidance that AHRQ should use for its dissemination strategy with particular audiences or users?

DATES: For particular audiences or uses, or explanation of particular rating systems to be considered for incorporation and discussion in the guidance AHRQ will provide in the near future in accordance with its legislative mandate, written comments must be received by August 22, 2002. Comments should be sent to Jacqueline Besteman (e-mail attached file preferred), at jbestema@ahrq.gov; or faxed to 301-594-4027.

FOR FURTHER INFORMATION CONTACT: Jacqueline Besteman, J.D., M.A., Director, EPC Program, Center for Practice and Technology Assessment AHRQ, 6010 executive Blvd., Suite 300, Rockville, MD 20852; Phone: (301) 594-4017; Fax: (301) 594-4027; e-mail: jbestema@ahrq.gov.

SUPPLEMENTARY INFORMATION:

Background

AHRQ is the lead Federal agency for enhancing the quality, appropriateness, and effectiveness of healthcare services and access to such services. In carrying out this mission, AHRQ conducts and funds research that develops and presents evidence-based information on healthcare outcomes, quality, cost, use and access. Included in AHRQ's legislative mandate is support of syntheses of scientific clinical and behavioral studies on particular treatments and technologies, and wide-spread dissemination of the resultant evidence reports and technology assessments. The mandate includes dissemination of guidance on methods or systems for rating the strength of scientific evidence. These research findings, syntheses, and guidance are intended to assist providers, clinicians, payers, patients, and policymakers in making evidence-based decisions regarding the quality and effectiveness of health care.

Section 911(a), part B, Title IX, Healthcare Research and Quality Act of 1999, requires in part that AHRQ, in collaboration with experts from the public and private sectors, identify methods or systems to assess health care research results, particularly “methods or systems to rate the strength of the scientific evidence underlying health care practice, recommendations in the research literature, and technology assessments.” The Agency is to make methods or systems for rating evidence, widely available. To inform its response to this mandate, AHRQ invites public comments on the RTI/UNC EPC study noted above.

Dated: May 17, 2002.
Carolyn M. Clancy,
Acting Director.

[FR Doc. 02-13152 Filed 5-23-02; 8:45 am]

BILLING CODE 4160-90-M